DEPARTMENT OF THE INTERIOR

Fish and Wildlife Service

[FWS-R8-R-2011-N253: FXRS12650800000S3-112-FF08R00000]

Hopper Mountain, Bitter Creek, and Blue Ridge National Wildlife Refuges, Ventura, Kern, San Luis Obispo, and Tulare Counties, CA

AGENCY: Fish and Wildlife Service, Interior.

ACTION: Notice of availability; request for comments: draft comprehensive conservation plan/environmental assessment.

SUMMARY: We, the U.S. Fish and Wildlife Service (Service) announce the availability of a Draft Comprehensive Conservation Plan (CCP) and Environmental Assessment (EA) for the Hopper Mountain, Bitter Creek, and Blue Ridge National Wildlife Refuges for public review and comment. The CCP/EA, prepared under the National Wildlife Refuge System Improvement Act of 1997, and in accordance with the National Environmental Policy Act of 1969, describes how the Service proposes to manage the three refuges for the next 15 years. Draft compatibility determinations for several existing and proposed public uses are also available for review and public comment with the Draft CCP/EA.

DATES: To ensure consideration, we must receive your written comments by June 11, 2012.

ADDRESSES: Send your comments, requests for more information, or requests to be added to the mailing list by any of the following methods.

Email: fw8plancomments@fws.gov. Include “Hopper CCP” in the subject line of the message.

Fax: Attn: Sandy Osborn, (916) 414-6497.

U.S. Mail: Pacific Southwest Region, Refuge Planning, U.S. Fish and Wildlife Service, 2800 Cottage Way, W-1832, Sacramento, CA 95825-1846.

In-Person Drop-off: You may drop off comments during regular business hours at the above address.

FOR FURTHER INFORMATION CONTACT: Sandy Osborn, Planning Team Leader, at (916) 414-6503, or Michael Brady, Project Leader, at (805) 644-5185 or fw8plancomments@fws.gov. Further information may also be found at http://www.fws.gov/hoppermountain/.

SUPPLEMENTARY INFORMATION: The National Wildlife Refuge System Improvement Act of 1997 (16 U.S.C. 668dd-668ee), which amended the National Wildlife Refuge System Administration Act of 1966, requires the Service to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, environmental education and interpretation.

We initiated the CCP/EA for the Hopper Mountain, Bitter Creek, and Blue Ridge National Wildlife Refuges in April 2010. At that time and throughout the process, we requested, considered, and incorporated public scoping comments in numerous ways. Our public outreach included a Federal Register notice of intent published on April 6, 2010 (75 FR 17430), two planning updates, a CCP Web page (http://www.fws.gov/hoppermountain/), and three public scoping meetings. The scoping comment period ended on May 21, 2010. Verbal comments were recorded at the public meetings, and written comments were received via letters, emails, completed issues workbooks, comment cards, meeting evaluations, and a petition letter with 276 signatures.

Background

Hopper Mountain NWR was established in 1974 and includes 2,471 contiguous acres in Ventura County, California. Bitter Creek NWR was established in 1985 and includes 14,097 acres, primarily in Kern County and extending into San Luis Obispo and Ventura Counties. Blue Ridge NWR was established in 1982 and includes 897 acres in Tulare County in the foothills of the Sierra Nevada Mountains. These three refuges in the Hopper Mountain NWR Complex (Complex) in southern California were created under the authority of the Federal Endangered Species Act of 1973, as amended (16 U.S.C. 1531 et seq.), primarily to restore the endangered California condor population to its native range. Due to the sensitivity of the California condor recovery activities, the Refuges are currently closed to the public except for Service-led tours and volunteer activities. Through this CCP process, we will determine whether any areas of the refuges can be made available to the public for wildlife-dependent recreational opportunities.

Alternatives

The Draft CCP/EA identifies and evaluates three alternatives for managing Hopper Mountain, Bitter Creek, and Blue Ridge National Wildlife Refuges for the next 15 years. The alternative that appears to best meet the Refuges' purposes is identified as the preferred alternative. The preferred alternative is identified based on the analysis presented in the Draft CCP/EA, which may be modified following the completion of the public comment period based on comments received from other agencies, Tribal governments, nongovernmental organizations, or individuals.

Under Alternative A (no action alternative) for each of the three refuges, the Service would continue to manage the Refuges as we have in the recent past. There would be continued maintenance of facilities and support of the California Condor Recovery Program (Recovery Program) activities. The three Refuges would remain closed to the public.

Alternatives for Hopper Mountain NWR

Under Alternative B (preferred alternative), the Service would increase condor management and support actions; collect baseline data for Refuge resources with emphasis on special status species; improve management of all habitat types on the Refuge; and increase outreach, and Service-guided visitor and volunteer opportunities. The Refuge would remain closed to the public.

Under Alternative C for Hopper Mountain NWR, the Service would increase some condor management and support actions, expand baseline data collection, manage invasive plants without using pesticides, increase habitat protection and enhancement of select black walnut and oak woodlands, increase some visitor services, and consider the feasibility of providing wildlife-dependent recreation on the Refuge. The Refuge would remain closed to the public.

Alternatives for Bitter Creek NWR

Under Alternative B (preferred alternative), the Service would increase condor management and support actions, install a 1,000-square-foot condor treatment facility, and collect baseline data on Refuge resources with emphasis on special status species. The Service would also use grazing and other methods to improve habitat quality to support special status San Joaquin Valley wildlife, and restore some springs and drainages. We would also expand visitor services by opening a new interpretive trail, and developing a new Refuge administrative office, visitor station, and condor observation point.

Under Alternative C for Bitter Creek NWR the Service would improve and expand current management by increasing some condor management and support actions; restoring more habitat to support special status species; managing invasive plants without using pesticides; restoring more springs and drainages; and expanding outreach, interpretation, and visitor and volunteer opportunities.

Alternatives for Blue Ridge NWR

Under Alternative B (preferred alternative) the Service would improve current management by increasing condor management activities, collecting baseline data for special status species, and adding volunteer opportunities. Portions of the Refuge would be opened to the public.

Under Alternative C for Blue Ridge NWR the Service would increase some condor management actions, but to a lesser extent than Alternative B, and work with partners to increase some guided visitor and volunteer opportunities. The Refuge would remain closed to the public.

Public Meetings

The locations, dates, and times of public meetings will be listed in a planning update distributed to the project mailing list and posted on the refuge planning Web site at http://www.fws.gov/hoppermountain/.

Review and Comment

Copies of the Draft CCP/EA may be obtained by writing to Sandy Osborn (see ADDRESSES). Copies of the Draft CCP/EA may be viewed at the same address and local libraries. The Draft CCP/EA will also be available for viewing and downloading online at: http://www.fws.gov/hoppermountain/.

Comments on the Draft CCP/EA should be addressed to Sandy Osborn (see ADDRESSES).

At the end of the review and comment period for this Draft CCP/EA, comments will be analyzed by the Service and addressed in the Final CCP/EA. Before including your address, phone number, email address, or other personal identifying information in your comment, you should be aware that your entire comment—including your personal identifying information—may be made publicly available at any time. While you can ask us in your comment to withhold your personal identifying information from public review, we cannot guarantee that we will be able to do so.

Alexandra Pitts,
Acting Regional Director, Pacific Southwest Region, Sacramento, California.

[FR Doc. 2012-8659 Filed 4-10-12; 8:45 am]

BILLING CODE 4310-55-P